DEPARTMENT OF THE TREASURY

Customs Service

19 CFR Part 4

Vessel Repair and Penalties Public Meeting

AGENCY: U.S. Customs Service, Department of the Treasury.

ACTION: Notice of meeting.

SUMMARY: This document announces that Customs will hold a public meeting to discuss the final rule amending the Customs Regulations concerning vessel repair. Certain vessel-related penalty matters will also be discussed at the meeting. This document invites interested members of the public to attend.

DATES: The meeting will be held on Thursday May 10, 2001, from 9:00 a.m. until 12:00 p.m. Seating requests should be made no later than close of business, Monday April 30, 2001.

ADDRESSES: The meeting will be held in New Orleans, Louisiana, at the historic Customhouse located at 423 Canal Street, room number 246.

FOR FURTHER INFORMATION CONTACT: Glenn Seale, Chief of the Vessel Repair Unit, Port of New Orleans, at (504) 670-2137 or, to reserve seating, via e-mail at Glenn.Seale@Customs.Treas.gov.

SUPPLEMENTARY INFORMATION: The final rule amending the Customs Regulations by which Customs administers the vessel repair statute (19 U.S.C. 1466) was published in the Federal Register on March 26, 2001 (66 FR 16392). The amendments, which appear at § 4.14 of the Customs Regulations (19 CFR 4.14), go into effect on April 25, 2001, with respect to American vessels arriving in the United States directly from foreign ports.

Customs has determined that it is appropriate to hold a public meeting in order to discuss the changes resulting from the amendments to the vessel repair regulations. Additionally, the meeting will provide a forum for the discussion of vessel-related penalties. Representatives from Customs Headquarters Office of Regulations and Rulings, as well as knowledgeable personnel from the Port of New Orleans, will preside over the meeting.

To ensure adequate seating, it is requested that interested persons submit notice of intent to attend the meeting via e-mail to Glenn.Seale@Customs.Treas.gov by close of business, Monday April 30, 2001. The notice should provide the company name, the name and title of the attendee(s), and a named point of contact, including telephone number and e-mail address, in the event Customs needs to notify an attendee of any changes to the program.

Dated: April 10, 2001.
Larry L. Burton,
Chief, Entry Procedures and Carriers Branch.

[FR Doc. 01-9341 Filed 4-16-01; 8:45 am]

BILLING CODE 4820-02-P